GENERAL SERVICES ADMINISTRATION

[Notice-PBS-2020-02; Docket No. 2020-0002; Sequence No. 7]

Notice of Availability of a Record of Decision for the Construction of a New U.S. Land Port of Entry in Madawaska, Maine, and a New Madawaska-Edmundston International Bridge

AGENCY: Public Buildings Service (PBS), General Services Administration (GSA); Federal Highway Administration (FHWA); Maine Department of Transportation (MaineDOT).

ACTION: Notice of availability of a Record of Decision.

SUMMARY: Pursuant to the requirements of the National Environmental Policy Act of 1969 (NEPA), the Council on Environmental Quality Regulations, GSA Order ADM 1095.1F Environmental Considerations in Decision Making, the GSA PBS NEPA Desk Guide, the FHWA Policy Guide, and FHWA's Environmental Impact and Related Procedures, the GSA PBS, FHWA, and MaineDOT, in cooperation with the U.S. Coast Guard and in coordination with the U.S. Customs and Border Protection (CBP), announce the availability of a Record of Decision (ROD) for the proposed new U.S. land port of entry (LPOE) in Madawaska, Maine, and new International Bridge between Madawaska, Maine, and Edmundston, New Brunswick, Canada.

ADDRESSES: GSA, FHWA, and MaineDOT will have copies of the ROD for review at the Town of Madawaska Town Office on 328 St. Thomas Street, Suite 101, Madawaska, Maine 04756. Further information, including an electronic copy of the ROD, may be found online on the following websites:

• gsa.gov/madawaskalpoe

• https://www.maine.gov/mdot/planning/studies/meib/

FOR FURTHER INFORMATION CONTACT: Alexas Kelly, Project Manager, GSA, New England Region, 10 Causeway Street, 11th Floor, Boston, MA 02222, by phone at 617-549-8190, or by email at alexandria.kelly@gsa.gov; or Cheryl Martin, Assistant Division Administrator, FHWA, Edmund S. Muskie Federal Building, 40 Western Avenue, Room 614, Augusta, ME 04330, by phone at 207-512-4912, or by email at cheryl.martin@dot.gov.

SUPPLEMENTARY INFORMATION: The purpose of the Proposed Action is to provide for the long-term safe and efficient flow of current and projected traffic volumes, including the movement of goods and people between Edmundston, New Brunswick, and Madawaska, Maine. The Proposed Action is needed because (1) the existing International Bridge is nearing the end of its useful life, and (2) the existing Madawaska LPOE is substandard, inhibiting the agencies assigned to the LPOE from adequately fulfilling their respective missions.

The existing Madawaska-Edmundston International Bridge opened to traffic in 1921 and its design life has been exceeded. Notable bridge deficiencies are (1) substandard roadway width and clearance, (2) foundation susceptible to undermining, (3) piers cracked and deteriorated, (4) significant steel corrosion, (5) bridge capacity is insufficient, and (6) deficiencies prompting the bridge posting on October 27, 2017, from 50 tons to 5 tons.

A Final Environmental Impact Statement (FEIS) and ROD were published in January 2007, which addressed the construction of a new Madawaska LPOE.

Built in 1959, the current LPOE suffers from facility, operational, and site deficiencies, and does not meet current CBP mission and operational requirements for a LPOE. A few noted deficiencies: (1) Lack of office and inspection areas, (2) deficient inbound and outbound passenger and commercial processing areas, (3) inadequate queuing space for vehicles, and (4) inability to meet the Architectural Barriers Act. In furtherance of the LPOE Project, GSA previously acquired approximately nine acres of land but did not commence construction.

A Supplemental Environmental Impact Statement (SEIS) was needed due to a change in circumstance: The decision by MaineDOT and New Brunswick Department of Transportation and Infrastructure (NBDTI) to include alternatives for addressing deficiencies to the existing Madawaska—Edmundston International Bridge. The SEIS addresses changes to the Proposed Action, including an updated design in accordance with current GSA and CBP requirements, a new International Bridge, and additional land acquisition.

A Final Supplemental Environmental Impact Statement (FSEIS)/Final Programmatic Section 4(f) Evaluation were issued for public review and comment on October 4, 2019. The FSEIS identified the Preferred Alternative for the new U.S. LPOE and new International Bridge location and design; described the environmental impacts of the proposed project and proposed mitigation; and addressed comments received on the Draft Supplemental Environmental Impact Statement/Draft Programmatic Section 4(f) Evaluation issued on November 26, 2018. The 30-day comment period for the FSEIS/Final Programmatic Section 4(f) ended on November 4, 2019.

The ROD states what the decision is; identifies the alternatives considered, including the environmentally preferred alternative; and discusses mitigation plans, including enforcement and monitoring commitments. In the ROD, the agencies discuss all the factors that were contemplated when reaching their decision on whether to, and if so how to, proceed with the Proposed Action. The ROD discusses all practical means to avoid or minimize environmental harm that have been adopted.

The GSA considered three build alternatives for the LPOE FSEIS/Final Programmatic Section 4(f) Evaluation; the FHWA and MaineDOT considered three build alternatives for the International Bridge. The Selected Alternative is identified as LPOE Alternative C and Bridge Alternative 2 from the FSEIS/Final Programmatic Section 4(f) Evaluation. LPOE Alternative C and Bridge Alternative 2 are the environmentally preferred alternatives for the LPOE and International Bridge, respectively.

LPOE Alternative C was identified as the Preferred LPOE Alternative because it furthers the purpose of the project and satisfies the needs for the project. The Preferred LPOE Alternative: (1) Provides enough space for safe and efficient flow of traffic through the LPOE; (2) provides enough space for the operations of the LPOE to function efficiently; (3) meets MaineDOT's access management guidelines and the entrance and exit to the LPOE would be approved by MaineDOT; (4) provides a safer location and distance between the outbound and inbound driveways; (5) provides enough open space to accommodate the necessary length of road to descend from the bridge landing elevation (538) to the elevation of Mill Street (520) without a steep road grade, and provides safer maintenance and circulation in winter conditions; (6) provides increased line of sight, safety and security for CBP personnel to carry out their mission and operations; (7) allows inbound and outbound driveways to connect to Mill Street, eliminating the need for B-trains to use Main Street; and, (8) provides enough space for seasonal snow storage and future expansion.

Bridge Alternative 2 was identified as the Preferred Bridge Alternative because, although it would have one more pier in the Saint John River than another alternative considered, the piers to support the bridge would be smaller, decreasing the risks for ice jamming in the river. While Bridge Alternative 2 would have similar construction impacts and comparable costs (both construction and long-term operation and maintenance) to other alternatives, Bridge Alternative 2 would take approximately six months less time to construct.

The FSEIS/Final Programmatic Section 4(f) Evaluation includes a comprehensive summary of the mitigation measures and commitments from the GSA, FHWA, and MaineDOT in support of the development of the Preferred LPOE Alternative and the Preferred Bridge Alternative to further avoid and minimize adverse impacts.

Dated: February 11, 2020.
Glenn Rotondo,
Regional Commissioner, Public Buildings Service.

[FR Doc. 2020-04252 Filed 2-28-20; 8:45 am]

BILLING CODE 6820-FP-P